DEPARTMENT OF ENERGY

Federal Energy Regulatory Commission

[Project No. 2144-035-Washington]

City of Seattle, Washington; Notice of Intent to File License Application, Filing of Pre-Application Document, Commencement of Licensing Proceeding, Scoping Meetings, Solicitation of Comments on the Pad and Scoping Document, and Identification of Issues and Associated Study Requests

July 3, 2006.

a. Type of Filing: Notice of Intent to File License Application for a New License and Pre-Application Document; Commencing Licensing Proceeding.

b. Project Nos.: 2144-035.

c. Dated Filed: May 5, 2006.

d. Submitted by: Seattle City Light (SCL).

e. Name of Project: Boundary Hydroelectric Project No. 2144.

f. Locations: The Boundary Hydroelectric Project is located on Pend Oreille River about 10 miles north of Metaline Falls in Pend Oreille County, Washington. The Boundary Project occupies lands of the Colville National Forest and lands managed by the U.S. Bureau of Land Management.

g. Filed Pursuant to: 18 CFR part 5 of the Commission's Regulations.

h. Applicant Contact: Barbara Greene, SCL Boundary Relicensing Program Lead, Seattle City Light, P.O. Box 34023, Seattle, Washington 98124-4023; (206) 615-1091.

i. FERC Contact: David Turner (202) 502-6091 or via e-mail at david.turner@ferc.gov.

j. We are asking Federal, state, local, and tribal agencies with jurisdiction and/or special expertise with respect to environmental issues to cooperate with us in the preparation of the environmental document. Agencies who would like to request cooperating status should follow the instructions for filing comments described in paragraph (o) below.

k. With this notice, we are initiating informal consultation with: (a) The U.S. Fish and Wildlife Service and the National Marine Fisheries Service under section 7 of the Endangered Species Act and the joint agency regulations at 50 CFR part 402 and (b) the State Historic Preservation Officer, as required by section 106, National Historical Preservation Act, and the implementing regulations of the Advisory Council on Historic Preservation at 36 CFR 800.2.

l. By this notice, we designate Seattle City Light as the Commission's non-Federal representative for carrying out informal consultation, pursuant to section 7 of the Endangered Species Act and section 106 of the National Historic Preservation Act.

m. SCL filed a Pre-Application Document (PAD) for the Boundary Project, including proposed process plans and schedules, with the Commission pursuant to 18 CFR 5.6 of the Commission's regulations.

The Commission issued Scoping Document 1 (SD1) and notice of scoping meetings on June 19, 2006. The scoping meetings will be held July 18, 2006, at 1 p.m. at the Quality Inn, 7919 North Division Street, Spokane, Washington; and on July 19, 2006 at 7 p.m. at the Cutter Theater, 302 Park Street, Metaline Falls, Washington. A site visit will be conducted on July 19, 2006; meet at the SCL forebay recreation site parking lot at 12:30 p.m. Those interested in participating in the site visit must notify Mary Pat DiLeva at marypat.dileva@seattle.gov by June 30, 2006.

n. Copies of the PAD and Scoping Document 1 (SD1) are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

Register online at http://ferc.gov/esubscribenow.htm to be notified via e-mail of new filing and issuances related to this or other pending projects. For assistance, contact FERC Online Support.

o. With this notice, we are soliciting comments on the PAD and SD1 as well as study requests. All comments and study requests should be sent to the address above in paragraph h. In addition, all comments, study requests, requests for cooperating agency status, and all communications to Commission staff related to the merits of the potential application (original and eight copies) must be filed with the Commission at the following address: Magalie R. Salas, Secretary, Federal Energy Regulatory Commission, 888 First Street, NE., Washington, DC 20426. All filings with the Commission must include on the first page, the project name, (Boundary Hydroelectric Project) and number (P-2144-035), and bear the heading, as appropriate, “Comments on Pre-Application Document,” “Study Requests,” “Comments on Scoping Document 1,” “Request for Cooperating Agency Status,” or “Communications to and from Commission Staff.” Any individual or entity interested in submitting study requests, commenting on the PAD or SD1, and any agency requesting cooperating status must do so by September 1, 2006.

All study requests must address the seven criteria, pursuant to 18 CFR 5.9(b) of the Commission's regulations.

Comments, study requests, requests for cooperating agency status, and other permissible forms of communications with the Commission may be filed electronically via the Internet in lieu of paper. The Commission strongly encourages electronic filings. See 18 CFR 385.2001(a)(1)(iii) and the instructions on the Commission's Web site (http://www.ferc.gov) under the “e-filing” link.

Magalie R. Salas,
Secretary.

[FR Doc. E6-10806 Filed 7-10-06; 8:45 am]

BILLING CODE 6717-01-P